COMMISSION ON CIVIL RIGHTS

Notice Corrected Date of Public Meeting of the Indiana Advisory Committee; Correction

AGENCY: Commission on Civil Rights.

ACTION: Notice; correction.

SUMMARY: The U.S. Commission on Civil Rights published a document in the Federal Register of October 3, 2016, concerning the announcement of a meeting on November 15, 2016. The document contained incorrect dates.

FOR FURTHER INFORMATION CONTACT: Melissa Wojnaroski, 312-353-8311.

Correction

In the Federal Register of October 3, 2016, in FR Doc. 2016-23729, correct the Summary and Dates captions to read:

SUMMARY: Notice is hereby given, pursuant to the provisions of the rules and regulations of the U.S. Commission on Civil Rights (Commission) and the Federal Advisory Committee Act that the Indiana Advisory Committee (Committee) will hold a meeting on Friday, December 9, 2016, at 4:00 p.m. EST for the purpose of discussing a draft report regarding the school to prison pipeline in the state.

DATES: The meeting will be held on Friday, December 9, 2016, at 4:00 p.m. EST.

Dated: November 1, 2016.
David Mussatt,
Supervisory Chief, Regional Programs Unit.

[FR Doc. 2016-26777 Filed 11-4-16; 8:45 am]

BILLING CODE P